DEPARTMENT OF AGRICULTURE

Forest Service

Notice of Meeting of the Southwest Oregon Provincial Advisory Committee

SUMMARY: The Southwest Oregon Provincial Advisory Committee will meet on Tuesday, April 10, and Wednesday, April 11, 2007, in Medford, Oregon. The purpose of the meeting is to advise the Bureau of Land Management on the current Western Oregon Plan Revision currently taking place. The meeting will be held at the Medford BLM Office, 3040 Biddle Road, Medford, Oregon, in Rooms A and B. The meeting is from 1 to 5 p.m. pm April 10 and 8 a.m. to noon on April 11. Written comments may be submitted prior to the meeting and delivered to Designated Federal Official, Cliff Dils at the Umpqua National Forest, 2900 NW., Stewart Parkway, Roseburg, OR 97470.

FOR FURTHER INFORMATION CONTACT: Umpqua National Forest Public Affairs Officer Cheryl Walters at 541-957-3270 or crwalters@fs.fed.us or 2900 NW., Stewart Parkway, Roseburg, OR 97470.

Dated: March 13, 2007.
Greg Lesch,
Acting Forest Supervisor, Umpqua National Forest.

[FR Doc. 07-1335 Filed 3-19-07; 8:45 am]

BILLING CODE 3410-11-M